DEPARTMENT OF COMMERCE

National Oceanic and Atmospheric Administration

RIN 0648-XE605

Regional Fishery Management Councils: Council Coordination Committee; Public Meeting

AGENCY: National Marine Fisheries Service (NMFS), National Oceanic and Atmospheric Administration (NOAA), Commerce.

ACTION: Notice of Regional Fishery Management Councils Coordination Committee Meeting.

SUMMARY: The Caribbean Fishery Management Council (CFMC) will host a meeting of the Council Coordination Committee (CCC) consisting of eight Regional Fishery Management Councils (RFMC) chairs, vice chairs, and executive directors and its subcommittees in May 2016. The intent of this meeting is to discuss issues of relevance to the Councils, contained in the following proposed agenda. All sessions are open to the public:

DATES: The meeting dates are May 25-26, 2016. Registration for the meeting will be from 9 a.m. to 4 p.m. on May 24, 2016, and from 9 a.m. to 12 noon on May 25, 2016. The meetings will begin at 9 a.m., on May 25, 2016, and recess at 5 p.m., or when business is completed, and will reconvene for its final day on May 26, 2016 at 8:30 a.m. until 4:45 p.m. or when business is completed.

ADDRESSES: The meeting will take place at the Frenchman's Reef and Morning Star Marriott Beach Resort, 5 Estate Bakkeroe, St. Thomas, U.S Virgin Islands.

FOR FURTHER INFORMATION CONTACT: Caribbean Fishery Management Council, 270 Muñoz Rivera Avenue, Suite 401, San Juan, Puerto Rico 00918-1903, telephone (787) 766-5926.

SUPPLEMENTARY INFORMATION:

Time | Discussion item | Presenter
May 25, 2016
9 a.m.-10 a.m. | Welcome | Carlos Farchette/Eileen Sobeck.
| NMFS Update —NMFS Science Update on Coral Work in the Caribbean. | Eileen Sobeck.
| —NMFS Science Update on Coral Work in the Caribbean
10 a.m.-10:20 a.m. | Recreational Fisheries Update | Russell Dunn.
10:20 a.m.-10:35 a.m. | Coffee Break
10:35 a.m.-11:30 a.m. | FY 16/17 Budget Updates | Brian Pawlak.
11:30 a.m.-12 noon | Legislative Update | Dave Whaley.
12 noon-1:30 p.m. | Lunch
1:30 p.m.-2 p.m. | EBFM Road Map (Plan for Implementation) | Sam Rauch/Heather Sagar.
2 p.m.-3 p.m. | Council Definition of OY and Update on NS1 | CCC Sam Rauch.
3 p.m.-3:15 p.m. | Coffee break
3:15 p.m.-4:15 p.m. | Catch Share Update Review | Alan Risenhoover/Kelly Denit.
4:15 p.m.-5 p.m. | Bycatch Discussion
| —SBRM Rule Status Update | Sam Rauch.
| —Council Discussion & Comments on Bycatch Strategy | CCC.
May 26, 2016
8:30 a.m.-9:15 a.m. | New Operational Guidelines and the Regional Operation Agreements | Chuck Tracy/Alan Risenhoover.
9:15 a.m.-10 a.m. | EM & ER Regional Implementation Update | Jane DiCosimo/Kelly Denit/CCC.
10 a.m.-10:15 a.m. | Coffee Break
10:15 a.m.-11:00 a.m. | EFH Summit Update | Bill Tweit/Terra Lederhouse.
11a.m.-11:30 a.m. | Update on Conflict of Interest Regulations Project | Adam Issenberg.
11:30 a.m.-12 noon | Communications Group Report | Kitty Simonds.
12 noon-1:30 p.m. | Lunch
1:30 p.m.-3 p.m. | Compliance with NS2: BSIA used by Council/NMFS for stock status determination, specifications (OFL/ABC/ACL), and model selection | Tom Nies/Gregg Waugh/Jane DiCosimo.
| —Issues and examples
| —Agency process to determine BSIA for Stock Status
3 p.m.-3:15 p.m. | Coffee Break
3:15 p.m.-3:45 p.m. | SSC Subcommittee
| —Agenda items for 2017 Meeting
3:45 p.m.-4:15 p.m. | Other Business
4:15 p.m.-4:45 p.m. | Next CCC Meeting (2017) | Tom Nies.

The order in which the agenda items are addressed may change. The CCC will meet as late as necessary to complete scheduled business.

Copy of the tentative agenda can be found at the CFMC Web page: www.caribbeanfmc.com.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: May 2, 2016.
Alan D. Risenhoover,
Director, Office of Sustainable Fisheries, National Marine Fisheries Service.

[FR Doc. 2016-10650 Filed 5-5-16; 8:45 am]

BILLING CODE 3510-22-P